DEPARTMENT OF COMMERCE

International Trade Administration

A-570-601

Notice of Extension of Final Results of the 2004-2005 Administrative Review of Tapered Roller Bearings and Parts Thereof, Finished and Unfinished, from the People's Republic of China

AGENCY: Import Administration, International Trade Administration, Department of Commerce.

EFFECTIVE DATE: November 16, 2006.

FOR FURTHER INFORMATION CONTACT: Eugene Degnan or Robert Bolling, AD/CVD Operations, Office 8, Import Administration, International Trade Administration, U.S. Department of Commerce, 14th Street and Constitution Avenue, NW, Washington DC 20230; telephone: (202) 482-0414 and (202) 482-3434, respectively.

SUPPLEMENTARY INFORMATION:

Background

On July 14, 2006, the Department published its preliminary results. See Tapered Roller Bearings and Parts Thereof, Finished and Unfinished, from the People's Republic of China: Preliminary Results of 2003-2004 Antidumping Administrative Review, and Notice of Intent to Rescind in Part, 71 FR 40069 (July 14, 2006) (“Preliminary Results”). In the Preliminary Results we stated that we would make our final determination for the antidumping duty review no later than 120 days after the date of publication of the preliminary results (i.e., November 11, 2006).

Extension of Time Limit for Final Results

Section 751(a)(3)(A) of the Tariff Act of 1930, as amended (“the Act”), requires the Department of Commerce (“the Department”) to issue the final results in an administrative review within 120 days of publication date of the preliminary results. However, if it is not practicable to complete the review within this time period, the Department may extend the time limit for the final results to 180 days. Completion of the final results within the 120-day period is not practicable because this review involves certain complex issues, such as a tariff classification and surrogate financial ratios that both Petitioner and respondent addressed in their briefs.

Therefore, in accordance with section 751(a)(3)(A) of the Act and 19 CFR 351.213(h)(2), the Department is partially extending the time period for issuing these final results of review by 30 days until December 11, 2006.

Dated: November 7, 2006.
Stephen J. Claeys,
Deputy Assistant Secretary for Import Administration.

[FR Doc. E6-19403 Filed 11-15-06; 8:45 am]

BILLING CODE 3510-DS-S